FEDERAL MINE SAFETY AND HEALTH REVIEW COMMISSION

Sunshine Act Meeting

April 14, 2008.

Time and Date: 10 a.m., Friday, May 2, 2008.

Place: The Richard V. Backley Hearing Room, 9th Floor, 601 New Jersey Avenue, NW., Washington, DC.

Status: Open.

Matters To Be Considered: The Commission will hear oral argument in the matter Secretary of Labor v. Phelps Dodge Tyrone, Inc., Docket No. CENT 2006-212-RM. (Issues include whether the Administrative Law Judge erred in concluding that an unplanned fire that was not extinguished within 30 minutes occurred and therefore that the operator violated the requirement of 30 CFR 50.10 that such an accident be reported to MSHA within 15 minutes.)

Any person attending this oral argument who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Jean H. Ellen,
Chief Docket Clerk.

[FR Doc. E8-8963 Filed 4-24-08; 8:45 am]

BILLING CODE 6735-01-M